DEPARTMENT OF COMMERCE

International Trade Administration

[C-580-879]

Certain Corrosion-Resistant Steel Products From the Republic of Korea: Final Results and Rescission, in Part, of the Countervailing Duty Administrative Review; 2022

AGENCY: Enforcement and Compliance, International Trade Administration, Department of Commerce.

SUMMARY: The U.S. Department of Commerce (Commerce) determines that countervailable subsidies were provided to producers and exporters of certain corrosion-resistant steel products (CORE) from the Republic of Korea (Korea). The period of review (POR) is January 1, 2022, through December 31, 2022.

DATES: Applicable May 16, 2025.

FOR FURTHER INFORMATION CONTACT: Rachel Accorsi or Shane Subler, AD/CVD Operations, Office VIII, Enforcement and Compliance, International Trade Administration, U.S. Department of Commerce, 1401 Constitution Avenue NW, Washington, DC 20230; telephone: (202) 482-3149 or (202) 482-6241, respectively.

SUPPLEMENTARY INFORMATION:

Background

Commerce published the Preliminary Results of this administrative review on August 12, 2024.¹ On November 7, 2024, Commerce issued the Post-Preliminary Analysis.² On November 19, 2024, in accordance with section 751(a)(3)(A) of the Tariff Act of 1930, as amended (the Act), Commerce extended the deadline for issuing the final results until February 4, 2025.³ Additionally, on December 9, 2024, Commerce tolled the deadline to issue the final results in this administrative review by 90 days.⁴ On May 2, 2025, Commerce extended the deadline for issuing the final results until May 9, 2025.⁵ For a description of the events that occurred since the Preliminary Results, see the Issues and Decision Memorandum.⁶

¹ See Certain Corrosion-Resistant Steel Products From the Republic of Korea: Preliminary Results of the Countervailing Duty Administrative Review; 2022, 89 FR 65586 (August 12, 2024) (Preliminary Results), and accompanying Preliminary Decision Memorandum.

² See Memorandum, “Decision Memorandum for the Post-Preliminary Analysis of the Countervailing Duty Administrative Review of Certain Corrosion-Resistant Steel Products from the Republic of Korea; 2022,” dated November 7, 2024 (Post-Preliminary Analysis).

³ See Memorandum, “Certain Corrosion-Resistant Steel Products from the Republic of Korea: Extension of Deadline for Final Results of Countervailing Duty Administrative Review,” dated November 19, 2024.

⁴ See Memorandum, “Tolling of Deadlines for Antidumping and Countervailing Duty Proceedings,” dated December 9, 2024.

⁵ See Memorandum, “Extension of Deadline for Final Results of Countervailing Duty Administrative Review,” dated May 2, 2025.

⁶ See Memorandum, “Issues and Decision Memorandum for the Final Results and Partial Rescission of the 2022 Administrative Review of the Countervailing Duty Order on Certain Corrosion-Resistant Steel Products from the Republic of Korea,” dated concurrently with, and hereby adopted by, this notice (Issues and Decision Memorandum).

Scope of the Order ⁷

⁷ See Certain Corrosion-Resistant Steel Products from India, Italy, the Republic of Korea and the People's Republic of China: Countervailing Duty Orders, 81 FR 48387 (July 25, 2016) (Order).

The product covered by this Order is CORE from Korea. For a complete description of the scope of this Order, see the Issues and Decision Memorandum.

Analysis of Comments Received

All issues raised in interested parties' case briefs are addressed in the Issues and Decision Memorandum. A list of the issues raised by parties, and to which Commerce responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, and for the reasons explained in the Issues and Decision Memorandum, we made certain revisions to the subsidy calculations for KG Dongbu Steel Co., Ltd. (KG Dongbu). As a result of the changes to KG Dongbu's preliminary subsidy rate, the final subsidy rate for the five non-selected companies under review also changed.⁸

⁸ For details on the changes made since the Preliminary Results, see the Issues and Decision Memorandum.

Methodology

Commerce conducted this review in accordance with section 751(a)(1)(A) of the Act. For each of the subsidy programs found countervailable, we find that there is a subsidy, i.e., a government-provided financial contribution that gives rise to a benefit to the recipient, and that the subsidy is specific.⁹ For a description of the methodology underlying all of Commerce's conclusions, see the Issues and Decision Memorandum.

⁹ See sections 771(5)(B) and (D) of the Act regarding financial contribution; section 771(5)(E) of the Act regarding benefit; and section 771(5A) of the Act regarding specificity.

Partial Rescission of Review

Commerce's practice is to rescind an administrative review of a countervailing duty (CVD) order, pursuant to 19 CFR 351.213(d)(3), when there are no reviewable entries of subject merchandise during the POR for which liquidation is suspended.¹⁰ Normally, upon completion of an administrative review, the suspended entries are liquidated at the CVD assessment rate calculated for the review period.¹¹ Therefore, for an administrative review of a company to be conducted, there must be a reviewable, suspended entry that Commerce can instruct U.S. Customs and Border Protection (CBP) to liquidate at the CVD assessment rate calculated for the review period.

¹⁰ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

¹¹ See 19 CFR 351.212(b)(2).

In the Preliminary Results, we found the following two companies subject to this review did not have reviewable entries during the POR for which liquidation is suspended: (1) SeAH Steel Corporation; and (2) POSCO International. Accordingly, pursuant to 19 CFR 351.213(d)(3), we stated our intention to rescind the review with respect to these companies in the final results.¹² On November 19, 2024, we received comments from POSCO, POSCO International, POSCO Coated & Color Steel Co., Ltd., and POSCO Steeleon Co., Ltd. (collectively POSCO) claiming that POSCO International had entries of subject merchandise during the POR.¹³ After reviewing these comments, we find that POSCO International had reviewable entries of subject merchandise during the POR for which liquidation is suspended. Therefore, we are not rescinding this administrative review with respect to POSCO International. Because there is no evidence on the record that SeAH Steel Corporation had entries, exports, or sales of subject merchandise during the POR, and no party filed comments with respect to our preliminary determination regarding this company, we are rescinding this review with respect to SeAH Steel Corporation, consistent with 19 CFR 351.213(d)(3).

¹² See Preliminary Results, 89 FR at 65587.

¹³ See POSCO's Letter, “POSCO Case Brief,” dated November 19, 2024.

Companies Not Selected for Individual Review

There are five companies for which a review was requested, but which were not selected as mandatory respondents or found to be cross-owned with a mandatory respondent. These companies are: (1) POSCO; (2) POSCO Coated & Color Steel Co., Ltd.; (3) POSCO Steeleon Co., Ltd.; (4) POSCO International; and (5) SeAH Coated Metal Corporation. For these five companies, because the rates calculated for mandatory respondents KG Dongbu and Hyundai Steel Company were above de minimis and not based entirely on facts available, we applied a final subsidy rate based on a weighted average of the rates calculated for the two mandatory respondents using the publicly ranged sales data they submitted on the record. This methodology for establishing the subsidy rate for the non-selected companies is consistent with our practice and with section 705(c)(5)(A) of the Act.

Final Results of Review

We determine that, for the period January 1, 2022, through December 31, 2022, the following total net countervailable subsidy rates exist:

¹⁴ We treated Hyundai Steel, Hyundai Steel Company, and Hyundai Steel Co., Ltd. as minor variations of the same name at respondent selection. See Memorandum, “Respondent Selection,” dated October 20, 2023, at Attachment; see also Initiation of Antidumping and Countervailing Duty Administrative Reviews, 88 FR 62322, 62333 (September 11, 2023).

Producer/exporter | Subsidy rate (percent ad valorem)
KG Dongbu Steel Co., Ltd.; KG Steel Corporation | 4.02
Hyundai Steel Company ¹⁴ | 2.27
Review-Specific Rate Applicable to Non-Selected Companies
POSCO | 2.97
POSCO Coated & Color Steel Co., Ltd | 2.97
POSCO International | 2.97
POSCO Steeleon Co., Ltd | 2.97
SeAH Coated Metal Corporation | 2.97

Disclosure

Commerce intends to disclose the calculations performed in connection with the final results of review to interested parties in this proceeding within five days of its public announcement, or if there is no public announcement, within five days of the date of publication of this notice in the Federal Register, in accordance with 19 CFR 351.224(b).

Assessment Rates

Pursuant to section 751(a)(2)(C) of the Act and 19 CFR 351.212(b)(2), Commerce has determined, and CBP shall assess, countervailing duties on all appropriate entries of subject merchandise in accordance with the final results of this review, for the above-listed companies at the applicable ad valorem assessment rates listed for the POR (i.e., January 1, 2022, to December 31, 2022). Commerce intends to issue assessment instructions to CBP for these companies no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amounts shown for the POR for each of the respective companies listed above on shipments of the subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon the publication of the final results of this review, shall remain in effect until further notice.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing these final results of administrative review and notice in accordance with sections 751(a)(1) and 777(i)(1) of the Act, and 19 CFR 351.221(b)(5).

Dated: May 9, 2025.
Abdelali Elouaradia,
Deputy Assistant Secretary for Enforcement and Compliance.

Appendix

List of Topics Discussed in the Issues and Decision Memorandum

I. Summary

II. Background

III. Rescission of Administrative Review, In Part

IV. Scope of the Order

V. Subsidies Valuation Information

VI. Analysis of Programs

VII. Discussion of the Issues

Comment 1: Whether Dongbu Steel Co., Ltd.'s (Dongbu Steel's) 2015-2018 Debt-to-Equity Swaps Should Be Countervailed

Comment 2: Whether Subsidies Prior to Dongbu Steel's Change in Ownership (CIO) Pass Through to KG Dongbu Steel Co., Ltd. (KG Dongbu Steel)

Comment 3: Calculation of the Uncreditworthy Benchmark Rate and Unequityworthy Discount Rates

Comment 4: Whether Commerce Used the Correct Uncreditworthy Rate in the Benefit Calculations for the Long-Term Loan and Bond Restructured in 2019

Comment 5: Whether the Provision of Korea Emissions Trading System (K-ETS) Permits Is a Countervailable Subsidy

Comment 6: Whether the Provision of Electricity Is Subsidized by the Government of Korea (GOK)

Comment 7: Whether the Provision of Electricity for Less Than Adequate Remuneration (LTAR) Program Is Specific

Comment 8: Whether Commerce Should Rescind the Administrative Review With Respect to POSCO International

VIII. Recommendation

[FR Doc. 2025-08713 Filed 5-15-25; 8:45 am]

BILLING CODE 3510-DS-P